DEPARTMENT OF HEALTH AND HUMAN SERVICES

Administration for Children and Families

Administration on Children, Youth and Families, Head Start Bureau; Head Start Historically Black College and University Partnerships

Announcement Type: Initial.

Funding Opportunity Number: HHS-2005-ACF-ACYF-YH-0004.

CFDA Number: 93.600.

Due Date For Letter of Intent or Preapplications: Letter of Intent is due May 19, 2005.

Due Date for Applications: Application is due June 20, 2005.

Executive Summary: The Head Start Bureau is announcing the availability of funds and request for applications for professional development and training grants for Historically Black Colleges and Universities (HBCUs) in partnership with Head Start and Early Head Start programs to improve staff training and to thereby enhance services to Head Start and Early Head Start children and families.

Through this announcement, the Administration on Children, Youth and Families (ACYF) is making available up to $1,500,000 annually for each of five years to support Head Start Historically Black Colleges and Universities (HBCUs) Partnerships. These partnerships are designed to improve the quality and long-term effectiveness of Head Start and Early Head Start grantees by developing academic training models to increase the number of Head Start/Early Head Start teachers with BA degrees in early childhood education.

I. Funding Opportunity Description

The overall goal of Head Start is to ensure that children of low-income families acquire the skills and knowledge necessary to allow them to enter school ready for success Programs funded under the Head Start Act provide comprehensive services to these children and their families. Head Start enhances children's physical, cognitive, social, and emotional development. It supports parents in their efforts to fulfill their parental roles as their child's primary educator, helps support them while they work towards employment and self-sufficiency, and provides for their involvement in administering the Head Start program.

In an attempt to ensure that highly qualified and well trained staff provides high quality services to enrolled children and their families, Head Start has supported many demonstration projects. For example, Head Start supported the creation of the Child Development Associate (CDA) credential designed for early childhood development teaching staff, implemented the Head Start Teaching Centers, and developed other related innovative projects. The Head Start Bureau also implemented partnerships with Tribally Controlled Land Grant Colleges and Universities (TCUs) and Higher Education Hispanic Service Partnerships (HS-HEHSPs) in addition to key innovative training and staff development projects.

The 1998 reauthorization of the Head Start Act contains provisions to improve Head Start program quality and accountability. These require the establishment of new education performance standards and measures, the expansion of program monitoring to incorporate evidence of progress on outcomes-based measures, funding to upgrade program quality and staff compensation, and higher education standards for Head Start teachers. In January 2001, the President signed into law the “No Child Left Behind Act” to make the education of every child in America one of the country's top priorities. The Act seeks to ensure that public schools teach children what they need to know to be successful in life and that they also set high education standards in the classroom. In his 2002 State of the Union address, the President indicated the need to prepare our children to read and succeed in school, including the improvement of Head Start and early childhood development programs. In response to these goals, the White House has developed an early childhood initiative, which is built on raising the bar for Head Start education methods to create a better learning environment and improved outcomes for children. In his announcement of the Good Start, Grow Smart Early Childhood Initiative in April 2002, the President identified children's early literacy as a key focus for Head Start program improvement. In this initiative, the President presented three areas of focus for Head Start: (1) Strengthening Head Start programs; (2) partnering with states to improve early childhood education, and (3) providing information to teachers, caregivers, and parents.

The Head Start Act, as amended 42 U.S.C. 9831 et seq., is the authorizing legislation for the HBCU program. The key purpose in funding the HBCU program is to increase the number of Head Start classroom teaching staff with BA degrees in early childhood education. To assure that selected colleges and universities will be able to fulfill this task it is important that HBCUs applying for funds under this announcement clearly demonstrate that they have established relationships with the Head Start and/or Early Head Start programs in their community and that these programs have indicated that they are willing to work collaboratively with the institution.

Priority Area

Head Start Historically Black Colleges and Universities

1. Description: The Head Start Bureau is announcing the availability of funds and request for applications for professional development and training grants for Historically Black Colleges and Universities (HBCUs) in partnership with Head Start and Early Head Start programs to improve staff training and to thereby enhance services to Head Start and Early Head Start children and families.

Through this announcement, the Administration on Children, Youth and Families (ACYF) is making available up to $1,500,000 annually for each of five years to support Head Start Historically Black Colleges and Universities (HBCUs) Partnerships. These partnerships are designed to improve the quality and long-term effectiveness of Head Start and Early Head Start grantees by developing academic training models to increase the number of Head Start/Early Head Start teachers with BA degrees in early childhood education.

The Head Start Act, as amended 42 U.S.C. § 9831 et seq., is the authorizing legislation for the HBCU program. The key purpose in funding the HBCU program is to increase the number of Head Start classroom teaching staff with BA degrees in early childhood education. To assure that selected colleges and universities will be able to fulfill this task it is important that HBCUs applying for funds under this announcement clearly demonstrate that they have established relationships with the Head Start and/or Early Head Start programs in their community and that these programs have indicated that they are willing to work collaboratively with the institution.

II. Award Information

Funding Instrument Type: Grant.

Anticipated Total Priority Area Funding: $1,500,000 per budget period.

Anticipated Number of Awards: 6 to 10.

Ceiling on Amount of Individual Awards Per Budget Period: $150,000 per budget period.

Floor on Amount of Individual Awards Per Budget Period: None.

Average Projected Award Amount: $150,000 per budget period.

Length of Project Periods: 60 month project with five 12-month budget periods.

Project Periods for Awards: Up to 60 months with 12 month budget periods. Awards will be made on a competitive basis and will be for a one-year budget period. The total project period will not exceed 60 months. Applications for continuation grants funded under these awards beyond the first 12 month budget period (but within the project period) will be considered on a noncompetitive basis subject to the availability of funds, satisfactory progress of the grantee, and a determination that continued funding is in the best interest of the Government.

III. Eligibility Information

1. Eligible Applicants: State controlled institutions of higher education. Private institutions of higher education.

Additional Information on Eligibility: This announcement is limited to Historically Black Colleges and Universities (HBCUs) defined as “Part B Institutions” under section 322(2) of the Higher Education Act of 1965, codified at 20 U.S.C. 1061(2). HBCUs are institutions established prior to 1964 whose principal mission was, and is, the education of Black Americans, and must satisfy section 322 of the Higher Education Act of 1965, as amended. Only those institutions that meet the definition of “Part B institution” in section 322 of the Higher Education Act of 1965, as amended, 20 U.S.C. 1061(2), shall be eligible for assistance under this announcement. Faith-based institutions planning to compete under this announcement must also meet the same eligibility criteria as other applicants.

Applicants must submit proof of accreditation for their institution and degree program by an accreditation agency recognized by the Secretary of the Department of Education. Institutions of Higher Education that are not accredited for the degree program they propose are not eligible to apply under this announcement. The applicant must submit documentation of accreditation for the degree program included as part of the method of meeting the objective of this announcement (i.e., increasing the number of teaching staff in the classroom with BA degrees).

HBCUs that are currently funded under the Head Start Partnership with HBCUs and whose funding will end after October 1, 2005 are not eligible to apply under this announcement.

Please see section IV for required documentation supporting eligibility or funding restrictions if any are applicable.

2. Cost Sharing/Matching: None.

3. Other: No grants award will be made under this announcement on the basis of an incomplete application.

All Applicants must have a Dun & Bradstreet Number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.grants.gov/). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com/.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earnings accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http:// www.acf.hhs.gov/programs/ofs/forms.htm.

Disqualification Factors. Applications that exceed the ceiling amount will be considered non-responsive and will not be eligible for funding under this announcement.

Any application received after 4:30 p.m., eastern time, on the deadline date will not be considered for competition.

IV. Application and Submission Information

1. Address to Request Application Package: ACYF Operations Center, c/o The Dixon Group, Inc., Historically Black Colleges and Universities (HBCUs), 118 Q Street, NE., Washington, DC 20002, Phone: 866-796-1591, E-mail: HS@dixongroup.com.

2. Content and Form of Application Submission: The project description of the application should be double-spaced and single-sided on 8 ½″ × 11″ plain white paper, with 1″ margins on all sides. Use only a standard size font no smaller than 12 pitch throughout the application. Packages should be assembled so the SF-424 and SF-424A are the first pages of the application package, immediately followed by the project abstract then the table of contents. All narrative sections of the application (including appendices, resumes, charts, references/footnotes, tables, maps and exhibits) must be sequentially numbered, beginning on the first page after the table of contents. The length of the application, including the projection description, appendices and resumes must not exceed 75 pages. Anything over 75 pages will be removed and not considered by the reviewers. The abstract should not be counted in the 75 pages and should not exceed one page.

Applicants are requested to refrain from sending pamphlets, brochures, or other printed material along with their applications. These materials, if submitted, will not be included in the review process. In addition, applicants must Not submit any additional letters of endorsement beyond any that are stated as required in this announcement.

Specific factual information and statements of measurable goals in quantitative terms must be included in the project description. Extensive exhibits are not required. Supporting information concerning activities that will not be directly funded by the grant or information that does not directly pertain to an integral part of the grant-funded activity should be placed in an appendix. Please see section V for further information regarding the Project Description.

Submission of Intent

Prior to submittal of the application, applicants should submit a Letter of Intent post card or call the ACYF Operations Center c/o The Dixon Group. The Letter of Intent post card must include the following information: the name, address, telephone and fax numbers, and e-mail address of the college/university intending to apply to receive Head Start Historically Black Colleges and Universities Partnerships funds. Please see section IV.1. for ACYF Operations Center c/o The Dixon Group address and telephone contact information.

Letter of Intent information will be used to determine the number of reviewers necessary to complete the panel review process. Failure to submit a Letter of Intent will not impact eligibility to submit an application and will not disqualify an application from competitive review based on non-responsiveness.

Table of Contents

All pages must be numbered and a table of contents should be included for easy reference.

Head Start Program Participation Agreement

Applicants must submit a letter of agreement with their applications from a Head Start Program Director verifying that the applicant has an established relationship with the program and that the Head Start program is willing to work with the HBCU.

Proof of Accreditation Status

Applicants must submit proof of accreditation for their institution and degree program by an accreditation agency recognized by the Secretary of the Department of Education.

Proof of HBCU Status

Applicants must submit documentation of their status as a HBCU as defined at “Part B Institutions” under section 322(2) of the Higher Education Act of 1965, codified at 20 U.S.C. 1061(2).

You may submit your application to us in either electronic or paper format. To submit an application electronically, please use the www.Grants.gov/Apply site. If you use Grants.gov, you will be able to download a copy of the application package, complete it off-line, and then upload and submit the application via the Grants.gov site. ACF will not accept grant applications via e-mail or facsimile transmission.

Please note the following if you plan to submit your application electronically via Grants.gov :

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.grants.gov.

• You must search for the downloadable application package by the CFDA number.

An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

Standard Forms and Certifications: The project description should include all the information requirements described in the specific evaluation criteria outlined in the program announcement under section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: www.acf.hhs.gov/programs/ofs/forms.htm.

Please see section V.1. Criteria, for instructions on preparing the full project description.

3. Submission Dates and Times: Due Dates: Letters of intent are due May 19, 2005.

Applications are due June 20, 2005.

Explanation of Due Dates: The closing time and date for receipt of applications is referenced above. Applications received after 4:30 p.m., eastern time, on the closing date will be classified as late.

Deadline: Applications shall be considered as meeting an announced deadline if they are received on or before the deadline time and date referenced in section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in section IV.6., between Monday and Friday (excluding Federal holidays).

ACF cannot accommodate transmission of applications by facsimile. Therefore, applications transmitted to ACF by fax will not be accepted regardless of date or time of submission and time of receipt.

Receipt acknowledgement for application packages will not be provided to applicants who submit their package via mail, courier services, or by hand delivery. However, applicants will receive an electronic acknowledgement for applications that are submitted via Grants.gov.

Late Applications: Applications that do not meet the criteria above are considered late applications. ACF shall notify each late applicant that its application will not be considered in the current competition.

Any application received after 4:30 p.m., eastern time, on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

What to submit | Required content | Required form or format | When to submit
Letter of Intent | See section IV | IV | 30 days prior to application due date.
Table of Contents | See section IV | IV | By application due date.
Project Abstract | See section IV and V | IV and V | By application due date.
Project Narrative | See section IV and V | IV and V | By application due date.
SF-424 | See section III | May be found on www.acf.hhs.gov/programs/ofs/forms.htm | By application due date.
SF-424A | See section III | May be found on www.acf.hhs.gov/programs/ofs/forms.htm | By application due date.
Assurances and Certifications | See section III | May be found on www.acf.hhs.gov/programs/ofs/forms.htm | By date of award.
Support Letters | See section V | V | By application due date.
Proof of HBCU Status | See section III | III | By application due date.
Head Start Program(s) Participation Agreement | See section III and V | III and V | By application due date.
Proof of Accreditation | See section III | III | By application due date.

Additional Forms: Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

What to Submit | Required content | Location | When to submit
Survey for Private, Non-Profit Grant Applicants | See form | May be found on www.acf.hhs.gov/programs/ofs/forms.htm | By application due date.

4. Intergovernmental Review: State Single Point of Contact (SPOC). This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, Northern Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally recognized Indian Tribes, need take no action in regard to E.O. 12372.

The official list, including addresses, of the jurisdictions elected to participate in E.O. 12372 can be found on the following URL: http://www.whitehouse.gov/omb/grants/spoc.html.

5. Funding Restrictions: Grant awards will not allow reimbursement of pre-award costs.

An application that exceeds the upper value of the dollar range specified will be considered non-responsive.

HBCUs that are currently funded under the Head Start Partnership with HBCUs and whose funding will end after October 1, 2005, are not eligible to apply under this announcement.

6. Other Submission Requirements: Submission by Mail: An applicant must provide an original application with all attachments, signed by an authorized representative and two copies. The application must be received at the address below by 4:30 p.m., eastern time, on or before the closing date. Applications should be mailed to: c/o The Dixon Group, Inc., Historically Black Colleges and Universities (HBCUs), 118 Q Street, NE., Washington, DC 20002, ACYF Operations Center.

Hand Delivery: An applicant must provide an original application with all attachments signed by an authorized representative and two copies. The application must be received at the address below by 4:30 p.m., eastern time, on or before the closing date. Applications that are hand delivered will be accepted between the hours of 8 a.m. to 4:30 p.m. eastern time, Monday through Friday. Applications should be delivered to: c/o The Dixon Group, Inc., Historically Black Colleges and Universities (HBCUs), 118 Q Street, NE., Washington, DC 20002, Attention: ACYF Operations Center.

Electronic Submission: http://www.grants.gov/ Please see section IV. 2 Content and Form of Application Submission, for guidelines and requirements when submitting applications electronically.

V. Application Review Information

The Paperwork Reduction Act of 1995 (Pub. L. 104-13)

Public reporting burden for this collection of information is estimated to average 35 hours per response, including the time for reviewing instructions, gathering and maintaining the data needed and reviewing the collection information.

The project description is approved under OMB control number 0970-0139 which expires 4/30/2007.

An agency may not conduct or sponsor, and a person is not required to respond to, a collection of information unless it displays a currently valid OMB control number.

The following are instructions and guidelines on how to prepare the “project summary/abstract” and “Full Project Description” sections of the application. Under the evaluation criteria section, note that each criterion is preceded by the generic evaluation requirement under the ACF Uniform Project Description (UPD).

1. Criteria

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Specifically describe how the college or university's conduct of a program to provide educational opportunities for teaching staff in Head Start classrooms, including faith-based and community organizations, will further the goals of the Head Start program.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Additional Information

Following are requests for additional information that need to be included in the application:

Staff and Position Data

Provide a biographical sketch and job description for each key person appointed. Job descriptions for each vacant key position should be included as well. As new key staff is appointed, biographical sketches will also be required.

Plan for Project Continuance Beyond Grant Support

Provide a plan for securing resources and continuing project activities after Federal assistance has ended.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Dissemination Plan

Provide a plan for distributing reports and other project outputs to colleagues and the public. Applicants must provide a description of the kind, volume and timing of distribution.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Nonfederal Resources

Description: Amounts of non-Federal resources that will be used to support the project as identified in Block 15 of the SF-424.

Justification: The firm commitment of these resources must be documented and submitted with the application so the applicant is given credit in the review process. A detailed budget must be prepared for each funding source.

Evaluation Criteria: The following evaluation criteria appear in weighted descending order. The corresponding score values indicate the relative importance that ACF places on each evaluation criterion; however, applicants need not develop their applications precisely according to the order presented. Application components may be organized such that a reviewer will be able to follow a seamless and logical flow of information (e.g., from a broad overview of the project to more detailed information about how it will be conducted).

In considering how applicants will carry out the responsibilities addressed under this announcement, competing applications for financial assistance will be reviewed and evaluated against the following criteria:

Results or Benefits Expected 20 points

The results and benefits to be derived. The anticipated contribution to policy, practice, theory and research. Specific benefits for both the applicant and the Head Start/Early Head Start community.

Based on the stated program objectives, the results and benefits to be derived. The specific results or benefits that could be expected for the Head Start/Early Head Start grantees and the institution.

The qualitative and quantitative data the program will collect to measure progress towards the stated results or benefits. How the program will determine the extent to which it has achieved its stated objectives.

The extent to which the applicant provides an accurate projection of the estimated number of Head Start/Early Head Start teachers that will earn degrees over the duration of the project based on an analysis of the current levels of credits/courses earned by participants and a proposed sequence of courses to be offered through this project.

The extent to which the applicant proposes new teaching methods for Head Start/Early Head Start teachers and staff for teaching early literacy in the classrooms and enhancing parental skills to encourage children to read and succeed in school. The extent to which the applicant proposes to design and submit a replicable model incorporating strength based perspective and reflective practices as well as their relationship to Head Start competency goals, indicators, priorities and the program performance standards.

Objectives and Need for Assistance 20 points

Relevant physical, economic, social, financial, institutional or other problems requiring intervention. The need for this project in the proposed community(ies). The principal and subordinate objectives of the project. The supporting documentation provided or other testimonies from concerned interests other than the applicant.

The objectives for the program. How these objectives are based on an assessment of partner and community needs and how they relate to Head Start goals. The extent to which the applicant proposes a detailed process that will be used to assess the need for the proposed program including the total number of staff needing training, including preschool and infant/toddler teachers.

Specifically identified population to be served. The extent to which the applicant describes proposed Head Start and Early Head Start grantees as participating partners. The extent to which the applicant provides the numbers and types of staff to be enrolled in the project, the proposed courses in relationship to courses completed by partner staff before entering the project, and degrees to be awarded.

The consultative process related to the development of the proposed initiative. The extent to which the applicant describes detailed efforts to frame the proposed initiative within broader State or community efforts to enhance professional and career development for staff in all forms of early childhood and child care programs. The extent to which the applicant provides letters of support that document consultation and support from the proposed grantee or delegate agency partners, the Head Start State Collaboration Office, and any existing state level early childhood career development initiative.

Approach 20 points

The extent to which the application describes a detailed plan of action pertaining to the scope of the project including details on how the proposed work will be accomplished, such as detailed timelines and lists of each organization as well as consultant and key individuals who will work on the project. The extent to which the applicant describes a brief yet clear description of the nature of the effort and contribution each organization, consultant, or key individual will make to the project. The extent to which the applicant demonstrates adequate time key staff will devote to the project and that this staff is qualified and knowledgeable of Head Start and Early Head Start. The extent to which the applicant describes an approach and methodology for implementing the project, including a clear description that delineates the relationship of each task to the accomplishment of the proposed objectives. The extent to which the applicant provides evidence that the planned approach reflects sufficient input from and partnership with Head Start and Early Head Start grantees.

The extent to which the applicant demonstrates effective planning for activities developed during the start-up period in preparation of implementation of the program including assurance that no more than 6 months will be devoted to planning activities.

The extent to which the applicant demonstrates effective methods for recruiting Head Start center-based teaching staff and an effective selection process for participation in the program.

The extent to which the applicant demonstrates how coursework will be contextually and culturally relevant to the Head Start and Early Head Start environment and how it will contribute to enhancing the effectiveness of teachers, program quality, and outcomes for Head Start children and families.

The extent to which the application describes efforts the applicant and Head Start partners will make to ensure that coursework is accessible to teaching staff and how the applicant will support their successful completion of courses and degrees. The extent to which the applicant provides discussion of relevant issues such as timing, scheduling, and location of classes, support to enhance the literacy and study skills of participants, and approaches to integrate coursework into the working environment of the Head Start program. The extent to which the applicant describes costs (if any) associated with courses and degree requirements for Head Start staff.

The extent to which the applicant describes credit courses offered particularly in the area of Early Childhood Development/Education.

The extent to which the applicant describes how CDA training and certification of Head Start and Early Head Start staff, as appropriate, as well as previous coursework and credits will be linked to academic credits and course sequences under this project leading to BA degrees in early childhood education. The extent to which the applicant includes estimates indicating how many Head Start and Early Head Start staff members will be included in this effort.

Plan for Project Continuance Beyond Grant Support 15 points

The extent to which the applicant describes appropriate activities that will continue after the completion of this project that will ensure that the applicant will continue to participate in providing educational opportunities for Head Start and Early Head Start classroom staff.

Nonfederal Resources 5 points

The extent to which the applicant describes strong efforts to complement the Federal funds requested in this proposal with other sources to maximize the benefits to Head Start and Early Head Start grantees including efforts or plans to assist Head Start/Early Head Start staff in accessing sources of financial assistance or to make use of other funding for training and career development of early childhood program staff.

Staff and Position Data 5 points

The extent to which the applicant demonstrates that key staff are qualified and knowledgeable of Head Start and Early Head Start. The extent to which the applicant demonstrates the capacity of its organization, key leaders, managers, and project personnel to provide: high quality, relevant, and responsive training to Head Start staff; competent project staff to plan and deliver appropriate course material to Head Start trainees that is culturally relevant; implementation of the training grant in an effective and timely manner; and successful partnerships that involve sharing resources, staffing, and facilities.

Budget and Budget Justification 5 points

How the proposed project costs are reasonable and appropriate in view of the activities to be carried out and the anticipated outcomes. The extent to which the applicant identifies and explains the relationship of the budgetary items listed under “General Budget Information,” in this section, to the objective of this announcement. The extent to which the applicant describes a thorough line item budget for the costs associated with key project staff attending two ACF-sponsored meetings in Washington, DC.

Organizational Profiles 5 points

The extent to which the applicant presents an organizational structure that will support the project objectives. The extent to which the applicant demonstrates how joint planning and assessment with the Head Start and Early Head Start grantees will be effectively implemented with timelines and clear lines of responsibility. The extent to which the applicant explains how staff positions will be assigned and describes their major functions and responsibilities.

Geographic Location 5 points

The extent to which the application describes the precise location of the project and area to be served, including the location of the Head Start and Early Head Start grantees the applicant partners with.

2. Review and Selection Process: No grant award will be made under this announcement on the basis of an incomplete application. Applications received by the due date will be reviewed and scored competitively. Experts in the field, generally persons from outside the Federal government, will use the evaluation criteria listed in Section V of this announcement as well as the eligibility criteria specified in Section III to review and score the applications. Application review panels will assign a score to each application and identify its strengths and weaknesses. The Head Start Bureau will conduct an administrative review of the applications and results of the competitive review panels and make recommendations for funding to the Commissioner, ACYF. Subject to the recommendation of the Head Start Bureau Associate Commissioner, the Commissioner, ACYF, will make the final selection of the applications to be funded. An application may be funded in whole or in part depending on: (1) The ranked order of applicants resulting from the competitive review; (2) staff review and consultations; (3) the combination of projects that best meets the objectives of the Head Start Bureau; (4) the funds available; (5) the statutory requirement that reserves funds for Indian Tribes, and Alaska Native Regional Corporations, and Native Hawaiian entities; and (6) other relevant considerations. The Commissioner may also elect not to fund any applicants with known management, fiscal, reporting, program, or other problems, which make it unlikely that they would be able to provide effective services.

Non-Federal Reviewers

Since ACF will be using non-Federal reviewers in the process, applicants have the option of omitting from the application copies (not the original) specific salary rates or amounts for individuals specified in the application budget and Social Security Numbers, if otherwise required for individuals. The copies may include summary salary information.

Approved but Unfunded Applications

In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competition.

3. Anticipated Announcement and Award Dates: The anticipated start date for the new awards is September 30, 2005. Projects may run through September 29, 2010 for a period of up to 60 months.

VI. Award Administration Information

1. Award Notices: The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements: Grantees are subject to the requirements in 45 CFR part 74 (non-governmental) and 45 CFR part 92 (governmental).

Direct Federal grants, subaward funds, or contracts under this ACF Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

3. Reporting Requirements: Program Progress Reports: Semi-Annually. Financial Reports: Semi-Annually.

Grantees will be required to submit program progress and financial reports (SF-269) throughout the project period. Program progress and financial reports are due 30 days after the reporting period. In addition, final programmatic and financial reports are due 90 days after the close of the project period. The SF-269 may be found at the following URL: http://www.acf.hhs.gov/programs/ofs/forms.htm.

VII. Agency Contacts

Program Office Contact: Rosalind Dailey, U.S. Department of Health and Human Services—ACF, ACYF—Head Start Bureau, 330 C Street SW., Switzer Room 2211, Washington, DC 20447, Phone: 202-205-8653, E-mail: rdailey@acf.hhs.gov.

Grants Management Office Contact: Tim Chappelle, Administration for Children and Families, Office of Grants Management, 330 C Street SW., Switzer Room 2220, Washington, DC 20447, Phone: 202-401-4855, E-mail: tichappelle@acf.hhs.gov.

VIII. Other Information

Additional information about this program and its purpose can be located on the following Web sites: http://www.headstartinfo.org and http://www.hsnrc.org.

Applicants will not be sent acknowledgements of received applications.

Notice: Beginning with FY 2006, the Administration for Children and Families (ACF) will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

Dated: April 12, 2005.
Joan E. Ohl,
Commissioner, Administration on Children, Youth and Families.

[FR Doc. 05-7795 Filed 4-18-05; 8:45 am]

BILLING CODE 4184-01-P